DEPARTMENT OF VETERANS AFFAIRS

Advisory Committee on Homeless Veterans; Notice of Meeting

The Department of Veterans Affairs (VA) gives notice under Public Law 92-463 (Federal Advisory Committee Act) that the Advisory Committee on Homeless Veterans will meet on February 28-March 1, 2007, at the Department of Veterans Affairs, 810 Vermont Avenue, NW., Washington, DC. The meeting is open to the public, and the sessions are scheduled as follows: February 28, 8 a.m. until 4 p.m., Room 948. March 1, 8 a.m. until 12 noon, Room 742.

The purpose of the Committee is to provide the Secretary of Veterans Affairs with an on-going assessment of the effectiveness of the policies, organizational structures, and services of the Department in assisting homeless veterans. The Committee shall assemble and review information relating to the needs of homeless veterans and provide on-going advice on the most appropriate means of providing assistance to homeless veterans. The Committee will make recommendations to the Secretary regarding such activities.

During the meeting, the Committee will hear reports from VA officials and others on programs and policies affecting homeless veterans. Much of the activity at this meeting will be in preparation for the Committee's annual report and recommendations to the Secretary.

Those wishing to attend the meeting should contact Mr. Pete Dougherty, Department of Veterans Affairs, at (202) 273-5764. No time will be allocated for receiving oral presentations from the public. However, the Committee will accept written comments from interested parties on issues affecting homeless veterans.

Such comments should be referred to the Committee at the following address: Advisory Committee on Homeless Veterans, Homeless Veterans Programs Office (075D), U.S. Department of Veterans Affairs, 810 Vermont Avenue, NW., Washington, DC 20420.

Dated: February 5, 2007.
By Direction of the Secretary.
E. Philip Riggin,
Committee Management Officer.

[FR Doc. 07-640 Filed 2-13-07; 8:45 am]

BILLING CODE 8320-01-M